DEPARTMENT OF DEFENSE

Office of the Secretary

Reserve Forces Policy Board; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the Reserve Forces Policy Board (RFPB) will take place.

DATES: The RFPB will hold a meeting on Wednesday, June 5, 2019 from 8:55 a.m. to 3:35 p.m. The portion of the meeting from 8:55 a.m. to 2:00 p.m. will be closed to the public. The portion of the meeting from 2:15 p.m. to 3:35 p.m. will be open to the public.

ADDRESSES: The RFPB meeting address is the Pentagon, Room 3E863, Arlington, VA.

FOR FURTHER INFORMATION CONTACT: Alexander Sabol, (703) 681-0577 (Voice), 703-681-0002 (Facsimile), Alexander.J.Sabol.Civ@Mail.Mil (Email). Mailing address is Reserve Forces Policy Board, 5113 Leesburg Pike, Suite 601, Falls Church, VA 22041. Website: http://rfpb.defense.gov/. The most up-to-date changes to the meeting agenda can be found on the website.

SUPPLEMENTARY INFORMATION: This meeting is being held under the provisions of the Federal Advisory Committee Act (FACA) (5 U.S.C., Appendix), the Government in the Sunshine Act (5 U.S.C. 552b), and 41 CFR 102-3.140 and 102-3.150.

Purpose of the Meeting: The purpose of the meeting is to obtain, review, and evaluate information related to strategies, policies, and practices designed to improve and enhance the capabilities, efficiency, and effectiveness of the Reserve Components.

Agenda: The RFPB will hold a meeting from 8:55 a.m. to 3:35 p.m. The portion of the meeting from 8:55 a.m. to 2:00 p.m. will be closed to the public and will consist of remarks to the RFPB from the following invited speakers: The Deputy Commander, U.S. Northern Command will discuss the Northern Command's posture with the use of the National Guard and Reserve to achieve its national military strategy and homeland security requirements; the Principal Deputy Director, Office of the Secretary of Defense for Cost Assessment and Program Evaluation will discuss the Department's analysis on how effectively the Services are programming the requirements of their Reserve Components to achieve the objectives of National Military Strategy; the Under Secretary of Defense for Comptroller/Chief Financial Officer, Performing the Duties of Deputy Secretary of Defense will discuss the Active and Reserve Components' readiness initiatives, their equipment parity and transparency reporting, and the Department's approach to budgeting Reserve equipment in the Defense Budget; the Assistant Secretary of Defense for Manpower and Reserve Affairs, Performing the Duties of the Under Secretary of Defense for Personnel and Readiness will provide an update of his goals on Reserve Component personnel system reforms under consideration and review of the Assistant Secretary of Defense Reserve Affairs reorganization issues; and the Institute for Defense Analyses Corporation will brief the findings of its study on the Reserve Components' training and readiness distractors during Operation Enduring Freedom. The portion of the meeting from 2:15 p.m. to 3:35 p.m. will be open to the public and will consist of briefings from the following: The Subcommittee on Enhancing DoD's Role in the Homeland will provide a brief on the Reserve Components' Cyber training qualification requirements and review them for a proposed RFPB recommendation to the Secretary of Defense; the Subcommittee on Supporting and Sustaining Reserve Component Personnel will discuss the subcommittee's review of the MILTECH retention issues and the Department of Health Affairs reform proposals impacting the Reserve Components for proposed recommendation to the Secretary of Defense; and the Subcommittee on Ensuring a Ready, Capable, Available, and Sustainable Operational Reserve will provide a review of the Reserve Components' equipment management process, their medical force structure issues, and their cost analysis findings for proposed RFPB recommendation to the Secretary of Defense.

Meeting Accessibility: Pursuant to section 10(a)(1) of the FACA and 41 CFR 102-3.140 through 102-3.165, and subject to the availability of space, the meeting is open to the public from 2:15 p.m. to 3:35 p.m. Seating is on a first-come, first-served basis. All members of the public who wish to attend the public meeting must contact Mr. Alex Sabol, the Designated Federal Officer, not later than 12:00 p.m. on Tuesday, June 4, 2019, as listed in the FOR FURTHER INFORMATION CONTACT section to make arrangements for a Pentagon escort, if necessary. Public attendees requiring escort should arrive at the Pentagon Metro Entrance at 1:45 p.m. to provide sufficient time to complete security screening to attend the beginning of the open meeting at 2:15 p.m. on June 5. To complete the security screening, please be prepared to present two forms of identification. One must be a picture identification card.

In accordance with section 10(d) of the FACA, 5 U.S.C. 552b(c), and 41 CFR 102-3.155, the DoD has determined that the portion of this meeting scheduled to occur from 8:55 a.m. to 2:00 p.m. will be closed to the public. Specifically, the Assistant Secretary of Defense for Manpower and Reserve Affairs, Performing the Duties of the Under Secretary of Defense for Personnel and Readiness, in coordination with the Department of Defense FACA Attorney, has determined in writing that this portion of the meeting will be closed to the public because it is likely to disclose classified matters covered by 5 U.S.C. 552b(c)(1). Written Statements: Pursuant to section 10(a)(3) of the FACA and 41 CFR 102-3.105(j) and 102-3.140, interested persons may submit written statements to the RFPB about its approved agenda or at any time on the RFPB's mission. Written statements should be submitted to the RFPB's Designated Federal Officer at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the RFPB members before the meeting that is the subject of this notice. Please note that since the RFPB operates in accordance with the provisions of the FACA, all submitted comments and public presentations will be treated as public documents and will be made available for public inspection, including, but not limited to, being posted on the RFPB's website.

Dated: May 13, 2019.
Aaron T. Siegel,
Alternate OSD Federal Register Liaison Officer, Department of Defense.

[FR Doc. 2019-10152 Filed 5-15-19; 8:45 am]

BILLING CODE 5001-06-P